DEPARTMENT OF COMMERCE

National Oceanic and Atmospheric Administration

Science Advisory Board

AGENCY: Office of Oceanic and Atmospheric Research (OAR), National Oceanic and Atmospheric Administration (NOAA), Department of Commerce (DOC).

ACTION: Notice of public meeting.

SUMMARY: This notice sets forth the schedule and proposed agenda of a forthcoming meeting of the NOAA Science Advisory Board. The members will discuss and provide advice on issues outlined in the section on Matters to be considered.

DATES: Time and Date: The meeting is scheduled for January 28, 2016 from 1:00 p.m. to 4:00 p.m. Eastern Standard Time.

ADDRESSES: Conference call. Public access is available at: NOAA, SSMC 3, Room 11836, 1315 East-West Highway, Silver Spring, MD. Members of the public will not be able to dial in to this meeting.

Status: The meeting will be open to public participation with a 5-minute public comment period from 3:50 p.m. Eastern Standard Time. The SAB expects that public statements presented at its meetings will not be repetitive of previously submitted verbal or written statements. In general, each individual or group making a verbal presentation will be limited to a total time of one minute. Written comments should be received in the SAB Executive Director's Office by January 21 to provide sufficient time for SAB review. Written comments received by the SAB Executive Director after January 21, will be distributed to the SAB, but may not be reviewed prior to the meeting date.

Special Accommodations: These meetings are physically accessible to people with disabilities. Requests for special accommodations may be directed no later than 12 p.m. on January 21, to Dr. Elizabeth Turner, Acting SAB Executive Director, NOAA, Room 146 Gregg Hall, 35 Colovos Road, Durham, NH 03824; email: Elizabeth.Turner@noaa.gov.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Matters To Be Considered: The meeting will include the following topics: (1) Report from the Environmental Information Services Working Group on a Review of the NOAA Partnership Policy; (2) Discussion of Ways to Optimize SAB and Working Group Operations and Working Group staff support from the Line Offices and (3) Continued Discussion of Strategic Advice to NOAA and Impact on SAB Operations. For the latest agenda, please visit the SAB Web site at http://www.sab.noaa.gov.

FOR FURTHER INFORMATION CONTACT: Dr. Elizabeth Turner Acting Executive Director, Science Advisory Board, NOAA, Room 146 Gregg Hall, 35 Colovos Road, Durham, NH 03824. Email: Elizabeth.Turner@noaa.gov; or visit the NOAA SAB Web site at http://www.sab.noaa.gov.

Dated: December 21, 2015.
Jason Donaldson,
Chief Financial Officer and Chief Administrative Officer, Office of Oceanic and Atmospheric Research, National Oceanic and Atmospheric Administration.

[FR Doc. 2015-32928 Filed 12-31-15; 8:45 am]

BILLING CODE 3510-KD-P